ENVIRONMENTAL PROTECTION AGENCY

[OPP-2002-0101; FRL-7182-3]

Tebufenozide; Receipt of Application for Emergency Exemption, Solicitation of Public Comment

AGENCY: Environmental Protection Agency (EPA).

ACTION: Notice.

SUMMARY: EPA has received a specific exemption request from the Vermont Department of Agriculture, Food, and Markets and the Maine Department of Agriculture, Food, and Rural Resources to use the pesticide tebufenozide (CAS No. 112410-23-8) to treat up to 25,000 acres of pasture and haylands in Vermont and 100,000 acres of pasture and haylands in Maine to control armyworms. The Applicants propose a use which has been requested in 3 or more previous years, and a petition for a tolerance has not yet been submitted to the Agency. EPA is soliciting public comment before making the decision whether or not to grant the exemption.

DATES: Comments, identified by docket ID number OPP-2002-0101, must be received on or before June 27, 2002.

ADDRESSES: Comments may be submitted by mail, electronically, or in person. Please follow the detailed instructions for each method as provided in Unit I. of the SUPPLEMENTARY INFORMATION. To ensure proper receipt by EPA, it is imperative that you identify docket ID number OPP-2002-0101 in the subject line on the first page of your response.

FOR FURTHER INFORMATION CONTACT: Barbara Madden, Registration Division (7505C), Office of Pesticide Programs, Environmental Protection Agency, 1200 Pennsylvania Ave., NW., Washington, DC 20460; telephone number: (703) 305-6463; fax number: (703) 308-5433; e-mail address: Sec-18-Mailbox@epamail.epa.gov.

SUPPLEMENTARY INFORMATION:

I. General Information

A. Does This Action Apply to Me?

You may be potentially affected by this action if you petition EPA for emergency exemption under section 18 of FIFRA. Potentially affected categories and entities may include, but are not limited to:

Categories | NAICS Codes | Examples of potentially affected entities
State government | 9241 | State agencies that petition EPA for section 18 pesticide exemption

This listing is not intended to be exhaustive, but rather provides a guide for readers regarding entities likely to be regulated by this action. Other types of entities not listed in the table in this unit could also be regulated. The North American Industrial Classification System (NAICS) codes have been provided to assist you and others in determining whether or not this action applies to certain entities. To determine whether you or your business is affected by this action, you should carefully examine the applicability provisions in this unit. If you have any questions regarding the applicability of this action to a particular entity, consult the person listed under FOR FURTHER INFORMATION CONTACT.

B. How Can I Get Additional Information, Including Copies of This Document and Other Related Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket ID number OPP-2002-0101. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket ID number OPP-2002-0101 in the subject line on the first page of your response.

1. By mail. Submit your comments to: Public Information and Records Integrity Branch (PIRIB), Information Resources and Services Division (7502C), Office of Pesticide Programs (OPP), Environmental Protection Agency, 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket ID number OPP-2002-0101. Electronic comments may also be filed online at many Federal Depository Libraries.

D. How Should I Handle CBI that I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice.

7. Make sure to submit your comments by the deadline in this document.

8. To ensure proper receipt by EPA, be sure to identify the docket ID number assigned to this action in the subject line on the first page of your response. You may also provide the name, date, and Federal Register citation.

II. Background

What Action is the Agency Taking?

Under section 18 of the Federal Insecticide, Fungicide, and Rodenticide Act (FIFRA) (7 U.S.C. 136p), at the discretion of the Administrator, a Federal or State agency may be exempted from any provision of FIFRA if the Administrator determines that emergency conditions exist which require the exemption. The Vermont Department of Agriculture, Food, and Markets and the Maine Department of Agriculture, Food, and Rural Resources has requested the Administrator to issue a specific exemption for the use of tebufenozide on pasture and haylands to control armyworms. Information in accordance with 40 CFR part 166 was submitted as part of this request.

As part of this request, the Vermont Department of Agriculture, Food, and Markets asserts that in 2001 unusually cooler temperatures and in localized regions of the state wet conditions triggered tremendous numbers of pests including armyworms and particularly fall armyworms. The concern is that there will be a recurrence of the conditions in 2002 leading to more potential crop loss. The economic threshold action level for pastures and haylands is three or more small armyworms per square foot. An armyworm outbreak in Vermont is of vital concern to farmers and livestock owners. Armyworm infestations have reduced the production in pasture and hay crops by an estimated 50% to 90%. According to Vermont Department of Agriculture, Food, and Markets there is no currently registered product that is effective in controlling armyworms.

The Maine Department of Agriculture, Food, and Rural Resources asserts that in 2001 economic losses due to armyworms occurred in all areas of Maine. In some locations armyworm infestations reduced the production in improved pastures as well as grasslands by 50% to 100%. The mild winter and recent wet conditions this spring are conducive to another outbreak of armyworms. Like Vermont, the Maine Department of Agriculture, Food, and Rural Resources also states that currently registered alternatives are not effective in controlling armyworms.

Efficacy data as well as actual field use (under previous emergency exemptions) indicate that tebufenozide will provide excellent armyworm control.

Both applicants propose to make no more than two applications per acre per year of a formulated product containing 23% tebufenozide. Up to 0.125 lb active ingredient (ai) per acre (8 fluid ounces of formulated product) will be applied. A total of 0.25 lb ai per acre (16 fluid ounces of formulated product) may be applied. A maximum of 25,000 acres of pasture and haylands in Vermont and 100,000 acres of pasture and haylands in Maine will be treated.

This notice does not constitute a decision by EPA on the application itself. The regulations governing section 18 of FIFRA require publication of a notice of receipt of an application for a specific exemption proposing a use which has been requested in 3 or more previous years, and a petition for a tolerance has not yet been submitted to the Agency. The notice provides an opportunity for public comment on the application.

The Agency, will review and consider all comments received during the comment period in determining whether to issue the specific exemptions requested by the Vermont Department of Agriculture, Food, and Markets and the Maine Department of Agriculture, Food, and Rural Resources. In the past the Agency has issued emergency exemptions for this use in Alabama, Arkansas, Connecticut, Kentucky, Louisiana, Mississippi, Oklahoma, Tennessee, Texas, and Vermont to control armyworms in pasture. It is likely these other states may also apply for emergency exemptions in 2002 for use season.

List of Subjects

Environmental protection, Pesticides and pests.

Dated: May 31, 2002.
Peter Caulkins,
Acting Director, Registration Division, Office of Pesticide Programs.

[FR Doc. 02-14494 Filed 6-11-02; 8:45 am]

BILLING CODE 6560-50-S